DEPARTMENT OF TRANSPORTATION

Federal Aviation Administration

14 CFR Part 39

[Docket No. FAA-2012-0962; Directorate Identifier 2012-CE-033-AD]

RIN 2120-AA64

Airworthiness Directives; Cessna Aircraft Company Airplanes

AGENCY: Federal Aviation Administration (FAA), DOT.

ACTION: Proposed rule; withdrawal.

SUMMARY: This document withdraws a Notice of Proposed Rulemaking (NPRM) that would have applied to certain Cessna Aircraft Company Models 172RG, R182, TR182, FR182, 210N, T210N, 210R, T210R, P210N, P210R, and T303 airplanes. The proposed airworthiness directive (AD) would have required you to inspect the aircraft's hydraulic power pack wiring for incorrect installation, and if needed, correct the installation. Since issuance of the NPRM, the FAA has re-evaluated this airworthiness concern and determined that an unsafe condition does not exist that would warrant AD action. This withdrawal does not prevent the FAA from initiating future rulemaking on this subject.

FOR FURTHER INFORMATION CONTACT: Richard Rejniak, Aerospace Engineer, Wichita Aircraft Certification Office, 1801 Airport Road, Room 100, Wichita, Kansas 67209; phone: (316) 946-4128; fax: (316) 946-4107; email: richard.rejniak@faa.gov.

SUPPLEMENTARY INFORMATION:

Discussion

We issued a Notice of Proposed Rulemaking (NPRM) to amend 14 CFR part 39 to include an AD that would apply to the specified products. That NPRM published in the Federal Register on September 11, 2012 (77 FR 55770). That NPRM proposed to require you to inspect the aircraft's hydraulic power pack wiring for incorrect installation, and if needed, correct the installation.

Since issuance of the NPRM, in light of the comments received on the NPRM, the FAA re-evaluated the details that went into the determination of the unsafe condition for this concern. Based on new information discovered during the re-evaluation, we determined that:

• An unsafe condition warranting AD action does not exist; and

• The associated level of risk does not warrant AD action.

To further mitigate this concern from recurring, the FAA may take another airworthiness action such as a special airworthiness information bulletin (SAIB) to recommend the actions contained in the proposed rule and capture potential concerns identified by the public during the comment period.

Withdrawal of this NPRM constitutes only such action and does not preclude the agency from issuing future rulemaking on this issue, nor does it commit the agency to any course of action in the future.

Regulatory Findings

Since this action only withdraws an NPRM, it is neither a proposed nor a final rule and therefore, is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2012-0962, published in the Federal Register on September 11, 2012 (77 FR 55770), is withdrawn.

Issued in Kansas City, Missouri, on January 14, 2013.
James Jackson,
Acting Manager, Small Airplane Directorate, Aircraft Certification Service.

[FR Doc. 2013-01000 Filed 1-17-13; 8:45 am]

BILLING CODE 4910-13-P